DEPARTMENT OF ENERGY

Certification Notice—256; Notice of Filing of Self-Certification of Coal Capability Under the Powerplant and Industrial Fuel Use Act

AGENCY: Office of Electricity, Department of Energy.

ACTION: Notice of filing.

SUMMARY: On February 26, 2020, CPV Three Rivers, LLC (CPV Three Rivers), as owner and operator of a new baseload power plant, submitted a coal capability self-certification to the Department of Energy (DOE). The Powerplant and Industrial Fuel Use Act of 1978, as amended, and regulations thereunder require DOE to publish a notice of filing of self-certification in the Federal Register.

ADDRESSES: Copies of coal capability self-certification filings are available for public inspection, upon request, in the Office of Electricity, Mail Code OE-20, Room 8G-024, Forrestal Building, 1000 Independence Avenue SW, Washington, DC 20585.

FOR FURTHER INFORMATION CONTACT: Christopher Lawrence at (202) 586-5260 or Christopher.lawrence@hq.doe.gov.

SUPPLEMENTARY INFORMATION: On February 26, 2020, CPV Three Rivers, as owner and operator of a new baseload power plant, submitted a coal capability self-certification to the Department of Energy (DOE) pursuant to section 201(d) of the Powerplant and Industrial Fuel Use Act of 1978 (FUA), as amended (42 U.S.C. 8311(d)), and DOE regulations at 10 CFR 501.61(a). The FUA and regulations thereunder require DOE to publish a notice of filing of self-certification in the Federal Register within fifteen days. See 42 U.S.C. 8311(d)(1); 10 CFR 501.61(c). Section 201(a) of the FUA provides that “no new electric powerplant may be constructed or operated as a base load powerplant without the capability to use coal or another alternate fuel as a primary energy source.” See 42 U.S.C. 8311(a). Pursuant to section 201(d) of the FUA, in order to meet the requirement of coal capability, the owner or operator of such a facility proposing to use natural gas or petroleum as its primary energy source must certify to the Secretary of Energy (Secretary), prior to construction or prior to operation as a baseload powerplant, that such powerplant has the capability to use coal or another alternate fuel. See 42 U.S.C. 8311(d)(1). Such certification establishes compliance with FUA section 201(a) as of the date it is filed with the Secretary. Id.; 10 CFR 501.61(b).

The following owner of a proposed new baseload electric generating powerplant has filed a self-certification of coal-capability with DOE pursuant to FUA section 201(d) and in accordance with DOE regulations at 10 CFR 501.61:

Owner: CPV Three Rivers, LLC

Design Capacity: 1,250 megawatts (MW)

Plant Location: Morris, IL 60450

In-Service Date: January 2023

Signed in Washington, DC, on March 9, 2020.
Christopher Lawrence,
Program Management Analyst, Office of Electricity.

[FR Doc. 2020-05168 Filed 3-12-20; 8:45 am]

BILLING CODE 6450-01-P